DEPARTMENT OF DEFENSE

Department of the Air Force

Active Duty Service Determinations for Civilian or Contractual Groups Pursers of Transcontinental and Western Air, Inc. (WWII); Application Instructions for an Armed Forces Discharge Certificate

On February 21, 2003, the Secretary of the Air Force, acting as Executive Agent of the Secretary of Defense, amended the 1992 Secretarial determination concerning the group known as: “U.S. Civilian Flight Crew and Aviation Ground Support Employees of Transcontinental and Western Air (TWA), Inc., Who Served Overseas as a Result of TWA's Contract with the Air Transport Command During the Periods February 26, 1942 through August 14, 1945.” The amendment determined that the service of “pursers,” who were part of these flight crews, shall be considered “active duty” for purposes of all laws administered by the Department of Veterans Affairs (VA).

To be eligible for VA benefits, “pursers,” who were part of the flight crews recognized by the Secretary in 1992, must establish each of the following:

1. He or she was employed by Transcontinental and Western Air, Inc., as part of its flight crew personnel (which now includes pursers); and

2. He or she served outside the continental United States in direct support of the Air Transport Command-directed flight operations during the period December 14, 1941, through August 14, 1945.

Qualifying periods of time are computed from the date of departure from the continental United States to the date of return to the continental United States.

Application Procedures

Before an individual can receive any VA benefits, the person must first apply for an Armed Forces Discharge Certificate (Department of Defense Form 214) by filling out a Department of Defense (DD) Form 2168 and sending it to the U.S. Air Force Personnel Center at the following address:

AFPC/DPPRP, 550 C St. West, Suite 11, Randolph AFB, TX 78150-4713.

Important: Applicants must attach supporting documents to their DD Form 2168 application. Of primary importance will be any employment records from TWA and flight/log books. Other supporting documentation might include copies of passports with appropriate entries, military or civilian orders posting the applicant to an overseas assignment, reports signed by or mentioning the work of the applicant as part of the TWA-ATC contract flights overseas, Army Air Force (AAF) Identification Forms 133, any personal employment records such as commendations regarding performance, employee expense reports of charges to ATC contracts, medical certifications prior to departure from the U.S., Army Air Force (AAF) passes to leave the limits of an overseas base, miscellaneous AAF papers, etc.

Applicants having difficulty establishing all of the eligibility criteria mentioned above should recognize the nature and character of documents addressing each criterion need not be the same. For example, an applicant may establish employment with TWA through official employment records, but find that proving assignment to an ATC contract crew outside the continental United States more difficult. In such a case, an applicant may be able to prove assignment and service at that location through other evidence, such as, dated, postmarked (or other sign of authenticity) correspondence (official or personal) to or from the applicant at that assignment outside the United States.

Upon confirmation of an applicant's eligibility, the DD Form 214 will be passed from AFPC/DPPRP to the Awards and Decorations office to determine which ribbons the applicant is eligible to receive (campaign ribbons, theater ribbons, victory medal, etc.). Specific awards (i.e., Silver Star, Purple Heart, etc.) need separate justification detailing the act, achievement, or service believed to warrant the appropriate medal/ribbon.

DD Forms 2168 are available from VA offices or from the U.S. Air Force offices in this notice. An electronic version is also available in Adobe Acrobat (the reader is free) on the Internet at “DefenseLINK, publications.”

For further information contact Mr. James D. Johnston at the Secretary of the Air Force Personnel Council (SAFPC), 1535 Command Drive, EE Wing, 3d Fl., Andrews AFB, MD 20762-7002.

Benefit Information

A determination of “active duty” under Public Law 95-202 is “for the purposes of all laws administered by the Department of Veterans Affairs” (Sec. 106, 38 U.S.C.). Benefits are not retroactive and do not include such things as increased military or Federal Civil Service retirement pay, or a military burial detail, for example. Entitlement to state veteran's benefits varies and is governed by each state. Therefore, for specific benefits information, contact your nearest Veterans Affairs Office and your state veterans service office after you have received your Armed Forces discharge documents.

Pamela D. Fitzgerald,
Air Force Federal Register Liaison Officer.

[FR Doc. 03-5440 Filed 3-6-03; 8:45 am]

BILLING CODE 5001-05-P